DEPARTMENT OF LABOR

Employment and Training Administration

[TA-W-61,449]

Delphi Corporation, Automotive Holding Group; Including On-Site Leased Workers of Securitas, Bartech, TAC Automotive, Interim, Breckenridge Enterprises/Dividend Staffing and Kelly Services, Wichita Falls, TX; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on May 25, 2007, applicable to workers of Delphi Corporation, Automotive holding Group, including on-site leased workers of Securitas, Bartech, TAC Automotive, Interim, Dividend Staffing, and Kelly Services, Wichita Falls, Texas. The notice was published in the Federal Register on June 7, 2007 (72 FR 31615).

At the request of the State agency, the Department reviewed the certification for workers of the subject firm. The workers were engaged in the production of exhaust oxygen sensors.

New information shows that the correct name of the on-site leasing firm Dividend Staffing should read Breckenridge Enterprises/Dividend Staffing. Some of the workers from Dividend Staffing separated from employment at the subject firm had their wages reported under the unemployment insurance (UI) tax account for Breckenridge Enterprises/Dividend Staffing. Accordingly, the Department is amending the certification to clarify this matter.

The intent of the Department's certification is to include all workers employed on-site at Delphi Corporation, Automotive Holding Group, Wichita Falls, Texas, who were adversely affected by increased imports. The amended notice applicable to TA-W-61,449 is hereby issued as follows:

All workers of Delphi Corporation, Automotive Holding Group, including on-site leased workers of Securitas, Bartech, TAC Automotive, Interim, Breckenridge Enterprises/Dividend Staffing, and Kelly Services, Wichita Falls, Texas, who became totally or partially separated from employment on or after April 30, 2006, through May 25, 2009, are eligible to apply for adjustment assistance under section 223 of the Trade Act of 1974, and are also eligible to apply for alternative trade adjustment assistance under section 246 of the Trade Act of 1974.

Signed at Washington, DC, this 10th day of January 2008.
Linda G. Poole,
Certifying Officer, Division of Trade Adjustment Assistance.

[FR Doc. E8-838 Filed 1-17-08; 8:45 am]

BILLING CODE 4510-FN-P